DEPARTMENT OF TRANSPORTATION

Federal Aviation Administration

14 CFR Part 95

[Docket No. 31390; Amdt. No. 561]

IFR Altitudes; Miscellaneous Amendments

AGENCY: Federal Aviation Administration (FAA), Department of Transportation (DOT).

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, October 7, 2021.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on September 3, 2021.
Wade Terrell,
Aviation Safety Manager, Flight Procedures & Airspace Group, Flight Technologies and Procedures Division.

Adoption of the Amendment

Accordingly, pursuant to the authority delegated to me by the Administrator, part 95 of the Federal Aviation Regulations (14 CFR part 95) is amended as follows effective at 0901 UTC, October 7, 2021.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 561 effective date October 07, 2021]
FROM | TO | MEA
Color Routes
§ 95.1115 Amber Federal Airway A15 Is Amended To Read in Part
HAINES, AK NDB | U.S. CANADIAN BORDER | *11000
*9300—MOCA
U.S. CANADIAN BORDER | NABESNA, AK NDB | *8400
*6700—MOCA
§ 95.10 Amber Federal Airway A2 Is Amended To Read in Part
U.S. CANADIAN BORDER | NABESNA, AK NDB | *8400
*6700—MOCA

FROM | TO | MEA | MAA
§ 95.3000 Low Altitude RNAV Routes
§ 95.3265 RNAV Route T265 Is Amended To Read in Part
JAYBE, WI WP | GRIFT, IL WP | 2800 | 10000
GRIFT, IL WP | START, IL FIX | 2700 | 10000
START, IL FIX | MEITZ, IL FIX | 2700 | 10000
MEITZ, IL FIX | COYAP, IL WP | 2400 | 10000
COYAP, IL WP | MAPPS, IN FIX | 2500 | 10000
§ 95.3322 RNAV Route T322 Is Added To Read
RAPID CITY, SD VORTAC | PHILIP, SD VOR/DME | 5000 | 17500
PHILIP, SD VOR/DME | PIERRE, SD VORTAC | 4000 | 17500
PIERRE, SD VORTAC | DAKPE, SD WP | 3900 | 17500
DAKPE, SD WP | DIDDL, SD WP | *3700 | 17500
*2800—MOCA
DIDDL, SD WP | OBITT, SD FIX | *3700 | 17500
*3200—MOCA
OBITT, SD FIX | CARIT, MN WP | 3700 | 17500
CARIT, MN WP | REDWOOD FALLS, MN VOR/DME | *3700 | 17500
*3200—MOCA
§ 95.3325 RNAV Route T325 Is Amended To Delete
BUNKA, IN FIX | TERRE HAUTE, IN VORTAC | 2400 | 17500
Is Amended by Adding
BUNKA, IN FIX | JIBKA, IN WP | 2400 | 17500
JIBKA, IN WP | CAPPY, IL WP | 2500 | 17500
CAPPY, IL WP | SMARS, IL WP | 3000 | 17500
SMARS, IL WP | TRENM, IL WP | 3100 | 10000
TRENM, IL WP | START, IL FIX | 3100 | 10000
START, IL FIX | GRIFT, IL WP | 2700 | 10000
GRIFT, IL WP | DEBOW, WI FIX | 2800 | 10000
DEBOW, WI FIX | LUNGS, WI WP | 2700 | 10000
LUNGS, WI WP | HOMNY, WI WP | *2800 | 10000
*2300—MOCA
HOMNY, WI WP | OSHKOSH, WI VORTAC | *3900 | 10000
*2600—MOCA
§ 95.3354 RNAV Route T354 Is Amended To Read in Part
FOMAG, WI WP | MAYSE, WI WP | 3000 | 10000
MAYSE, WI WP | HOMRC, IL WP | 3000 | 10000
HOMRC, IL WP | CPTON, IL WP | 2600 | 10000
§ 95.3392 RNAV Route T392 Is Added To Read
MZEEE, IA WP | KAATO, IA WP | 3300 | 17500
KAATO, IA WP | BERRG, IA WP | 3000 | 17500
BERRG, IA WP | GRSIS, MN WP | 3300 | 17500
§ 95.3397 RNAV Route T397 Is Amended by Adding
WALNUT RIDGE, AR, VORTAC | VICHY, MO VOR/DME | 3000 | 17500
VICHY, MO VOR/DME | LEWRP, MO WP | 3100 | 17500
LEWRP, MO WP | OHGEE, IA FIX | 2800 | 17500
OHGEE, IA FIX | LACON, IA FIX | 2800 | 17500
LACON, IA FIX | DES MOINES, IA VORTAC | 2800 | 17500
DES MOINES, IA VORTAC | WATERLOO, IA VOR/DME | 3100 | 17500
§ 95.3403 RNAV Route T403 Is Added To Read
GENEO, MN WP | TESEE, MN FIX | 3100 | 17500
TESEE, MN FIX | ALEXANDRIA, MN VOR/DME | 3200 | 17500
ALEXANDRIA, MN VOR/DME | PARK RAPIDS, MN DME | 3300 | 17500
PARK RAPIDS, MN DME | BLUOX, MN FIX | 3500 | 17500
§ 95.3405 RNAV Route T405 Is Added To Read
FIITS, SD WP | MITCHELL, SD VOR/DME | 3200 | 17500
MITCHELL, SD VOR/DME | DIDDL, SD WP | 3000 | 17500
DIDDL, SD WP | ABERDEEN, SD VOR/DME | 3000 | 17500
ABERDEEN, SD VOR/DME | JAMESTOWN, ND VOR/DME | 3300 | 17500
JAMESTOWN, ND VOR/DME | FARRM, ND FIX | 3400 | 17500
FARRM, ND FIX | GICHI, ND WP | 3500 | 17500
§ 95.4000 High Altitude RNAV Routes
§ 95.4022 RNAV Route Q22 Is Amended by Adding
BEARI, VA WP | UMBRE, VA WP | *18000 | 45000
*18000—GNSS MEA
*DME/DME/IRU MEA
UMBRE, VA WP | BBOBO, VA WP | *18000 | 45000
*18000—GNSS MEA
*DME/DME/IRU MEA
BBOBO, VA WP | SHTGN, MD WP | *18000 | 45000
*18000—GNSS MEA
*DME/DME/IRU MEA
SHTGN, MD WP | SYFER, MD WP | *18000 | 45000
*18000—GNSS MEA
*DME/DME/IRU MEA
SYFER, MD WP | DANGR, MD WP | *18000 | 45000
*18000—GNSS MEA
*DME/DME/IRU MEA
DANGR, MD WP | PYTHN, DE WP | *18000 | 45000
*18000—GNSS MEA
*DME/DME/IRU MEA
PYTHN, DE WP | BESSI, NJ FIX | *18000 | 45000
*18000—GNSS MEA
*DME/DME/IRU MEA
BESSI, NJ FIX | JOEPO, NJ WP | *18000 | 45000
*18000—GNSS MEA
*DME/DME/IRU MEA
JOEPO, NJ WP | BRAND, NJ FIX | *18000 | 45000
*18000—GNSS MEA
*DME/DME/IRU MEA
BRAND, NJ FIX | ROBBINSVILLE, NJ VORTAC | *18000 | 45000
*18000—GNSS MEA
*DME/DME/IRU MEA
ROBBINSVILLE, NJ VORTAC | LAURN, NY FIX | *18000 | 45000
*18000—GNSS MEA
*DME/DME/IRU MEA
LAURN, NY FIX | LLUND, NY FIX | *18000 | 45000
*18000—GNSS MEA
*DME/DME/IRU MEA
LLUND, NY FIX | BAYYS, CT FIX | *18000 | 45000
*18000—GNSS MEA
*DME/DME/IRU MEA
BAYYS, CT FIX | FOXWD, CT WP | *18000 | 45000
*18000—GNSS MEA
*DME/DME/IRU MEA
§ 95.4029 RNAV Route Q29 Is Amended To Delete
BAKRE, MS WP | MEMPHIS, TN VORTAC | *20000 | 45000
*18000—GNSS MEA
*DME/DME/IRU MEA
MEMPHIS, TN VORTAC | OMDUE, TN WP | *20000 | 45000
*18000—GNSS MEA
*DME/DME/IRU MEA
Is Amended by Adding
BAKRE, MS WP | MEMFS, TN WP | *18000 | 45000
*18000—GNSS MEA
*DME/DME/IRU MEA
MEMFS, TN WP | OMDUE, TN WP | *18000 | 45000
*18000—GNSS MEA
*DME/DME/IRU MEA
Is Amended To Read in Part
HARES, LA WP | BAKRE, MS WP | *18000 | 45000
*18000—GNSS MEA
*DME/DME/IRU MEA
OMDUE, TN WP | SIDAE, KY WP | *18000 | 45000
*18000—GNSS MEA
*DME/DME/IRU MEA
NIPPY, NY WP | CABCI, VT WP | *18000 | 45000
*18000—GNSS MEA
*DME/DME/IRU MEA
CABCI, VT WP | EBONY, ME FIX | *18000 | 45000
*GNSS REQUIRED
EBONY, ME FIX | U.S. CANADIAN BORDER | *18000 | 45000
*GNSS REQUIRED
§ 95.4034 RNAV Route Q34 Is Amended To Delete
TEXARKANA, AR VORTAC | MEMPHIS, TN VORTAC | *24000 | 45000
*18000—GNSS MEA
*DME/DME/IRU MEA
MEMPHIS, TN VORTAC | SWAPP, TN FIX | *24000 | 45000
*18000—GNSS MEA
*DME/DME/IRU MEA
Is Amended by Adding
TEXARKANA, AR VORTAC | LOOSE, AR WP | *18000 | 45000
*18000—GNSS MEA
*DME/DME/IRU MEA
LOOSE, AR WP | WASKO, AR FIX | *18000 | 45000
*18000—GNSS MEA
*DME/DME/IRU MEA
WASKO, AR FIX | MATIE, AR FIX | *18000 | 45000
*18000—GNSS MEA
*DME/DME/IRU MEA
MATIE, AR FIX | EDWAH, AR WP | *18000 | 45000
*18000—GNSS MEA
*DME/DME/IRU MEA
EDWAH, AR WP | MEMFS, TN WP | *18000 | 45000
*18000—GNSS MEA
*DME/DME/IRU MEA
MEMFS, TN WP | HENSY, TN WP | *18000 | 45000
*18000—GNSS MEA
*DME/DME/IRU MEA
HENSY, TN WP | WAKOL, TN WP | *18000 | 45000
*18000—GNSS MEA
*DME/DME/IRU MEA
WAKOL, TN WP | SWAPP, TN FIX | *18000 | 45000
*18000—GNSS MEA
*DME/DME/IRU MEA
SWAPP, TN FIX | GHATS, KY FIX | *18000 | 45000
*18000—GNSS MEA
*DME/DME/IRU MEA
GHATS, KY FIX | FOUNT, KY FIX | *18000 | 45000
*18000—GNSS MEA
*DME/DME/IRU MEA
FOUNT, KY FIX | TONIO, KY FIX | *18000 | 45000
*18000—GNSS MEA
*DME/DME/IRU MEA
TONIO, KY FIX | KONGO, KY FIX | *18000 | 45000
*18000—GNSS MEA
*DME/DME/IRU MEA
KONGO, KY FIX | NEALS, WV FIX | *18000 | 45000
*18000—GNSS MEA
*DME/DME/IRU MEA
NEALS, WV FIX | SITTR, WV WP | *18000 | 45000
*18000—GNSS MEA
*DME/DME/IRU MEA
SITTR, WV WP | ASBUR, WV FIX | *18000 | 45000
*18000—GNSS MEA
*DME/DME/IRU MEA
ASBUR, WV FIX | DENNY, VA FIX | *18000 | 45000
*18000—GNSS MEA
*DME/DME/IRU MEA
DENNY, VA FIX | MAULS, VA WP | *18000 | 45000
*18000—GNSS MEA
*DME/DME/IRU MEA
MAULS, VA WP | GORDONSVILLE, VA VORTAC | *18000 | 45000
*18000—GNSS MEA
*DME/DME/IRU MEA
GORDONSVILLE, VA VORTAC | BOOYA, VA WP | *18000 | 45000
*18000—GNSS MEA
*DME/DME/IRU MEA
BOOYA, VA WP | DUALY, MD WP | *18000 | 45000
*18000—GNSS MEA
*DME/DME/IRU MEA
DUALY, MD WP | BIGRG, MD WP | *18000 | 45000
*18000—GNSS MEA
*DME/DME/IRU MEA
BIGRG, MD WP | PNGWN, NJ WP | *18000 | 45000
*18000—GNSS MEA
*DME/DME/IRU MEA
PNGWN, NJ WP | HULKK, NJ WP | *18000 | 45000
*18000—GNSS MEA
*DME/DME/IRU MEA
HULKK, NJ WP | ROBBINSVILLE, NJ VORTAC | *18000 | 45000
*18000—GNSS MEA
*DME/DME/IRU MEA
§ 95.4054 RNAV Route Q54 Is Amended To Delete
GREENWOOD, SC VORTAC | NYLLA, SC WP | *18000 | 45000
*18000—GNSS MEA
*DME/DME/IRU MEA
Is Amended by Adding
HRTWL, SC WP | NYLLA, SC WP | *18000 | 45000
*18000—GNSS MEA
*DME/DME/IRU MEA
RAANE, NC WP | ASHEL, NC WP | *18000 | 45000
*18000—GNSS MEA
*DME/DME/IRU MEA
ASHEL, NC WP | NUTZE, NC WP | *18000 | 45000
*18000—GNSS MEA
*DME/DME/IRU MEA
§ 95.4064 RNAV Route Q64 Is Amended To Delete
FIGEY, GA WP | GREENWOOD, SC VORTAC | *18000 | 45000
*18000—GNSS MEA
*DME/DME/IRU MEA
GREENWOOD, SC VORTAC | DARRL, SC FIX | *18000 | 45000
*18000—GNSS MEA
*DME/DME/IRU MEA
Is Amended by Adding
FIGEY, GA WP | HRTWL, SC WP | *18000 | 45000
*18000—GNSS MEA
*DME/DME/IRU MEA
HRTWL, SC WP | DARRL, SC WP | *18000 | 45000
*18000—GNSS MEA
*DME/DME/IRU MEA
IDDAA, NC WP | DADDS, NC WP | *18000 | 45000
*18000—GNSS MEA
*DME/DME/IRU MEA
DADDS, NC WP | MARCL, NC WP | *18000 | 45000
*18000—GNSS MEA
*DME/DME/IRU MEA
MARCL, NC WP | TAR RIVER, NC VORTAC | *18000 | 45000
*18000—GNSS MEA
*DME/DME/IRU MEA
TAR RIVER, NC VORTAC | GUILD, NC WP | *18000 | 45000
*18000—GNSS MEA
*DME/DME/IRU MEA
GUILD, NC WP | SAWED, VA FIX | *18000 | 45000
*18000—GNSS MEA
*DME/DME/IRU MEA
§ 95.4419 RNAV Route Q419 Is Added To Read
BROSS, MD FIX | MYFOO, DE WP | *18000 | 45000
*18000—GNSS MEA
*DME/DME/IRU MEA
MYFOO, DE WP | NACYN, NJ WP | *18000 | 45000
*18000—GNSS MEA
*DME/DME/IRU MEA
NACYN, NJ WP | BSERK, NJ WP | *18000 | 45000
*18000—GNSS MEA
*DME/DME/IRU MEA
BSERK, NJ WP | HULKK, NJ WP | *18000 | 45000
*18000—GNSS MEA
*DME/DME/IRU MEA
HULKK, NJ WP | ROBBINSVILLE, NJ VORTAC | *18000 | 45000
*18000—GNSS MEA
*DME/DME/IRU MEA
ROBBINSVILLE, NJ VORTAC | LAURN, NY FIX | *18000 | 45000
*18000—GNSS MEA
*DME/DME/IRU MEA
LAURN, NY FIX | KENNEDY, NY VOR/DME | *18000 | 45000
*18000—GNSS MEA
*DME/DME/IRU MEA
KENNEDY, NY VOR/DME | DEER PARK, NY VOR/DME | *18000 | 45000
*18000—GNSS MEA
*DME/DME/IRU MEA
§ 95.4437 RNAV Route Q437 Is Added To Read
VILLS, NJ FIX | DITCH, NJ FIX | *18000 | 45000
*18000—GNSS MEA
*DME/DME/IRU MEA
DITCH, NJ FIX | LUIGI, NJ FIX | *18000 | 45000
*18000—GNSS MEA
*DME/DME/IRU MEA
LUIGI, NJ FIX | HNNAH, NJ FIX | *18000 | 45000
*18000—GNSS MEA
*DME/DME/IRU MEA
HNNAH, NJ FIX | LLUND, NY FIX | *18000 | 45000
*18000—GNSS MEA
*DME/DME/IRU MEA
LLUND, NY FIX | BIZEX, NY WP | *18000 | 45000
*18000—GNSS MEA
*DME/DME/IRU MEA
BIZEX, NY WP | BINGS, NY WP | *18000 | 45000
*18000—GNSS MEA
*DME/DME/IRU MEA
BINGS, NY WP | WARUV, NY WP | *18000 | 45000
*18000—GNSS MEA
*DME/DME/IRU MEA
WARUV, NY WP | SLANG, VT WP | *18000 | 45000
*18000—GNSS MEA
*DME/DME/IRU MEA
§ 95.4811 RNAV Route Q811 Is Added To Read
DILLINGHAM, AK VOR/DME | KOWOK, AK FIX | *18000 | 45000
*GNSS REQUIRED
KOWOK, AK FIX | SAHOK, AK FIX | *18000 | 45000
*GNSS REQUIRED
SAHOK, AK FIX | FAGIN, AK FIX | *18000 | 45000
*GNSS REQUIRED
FAGIN, AK FIX | NONDA, AK FIX | *18000 | 45000
*GNSS REQUIRED
NONDA, AK FIX | AMOTT, AK FIX | *18000 | 45000
*GNSS REQUIRED
AMOTT, AK FIX | GASTO, AK FIX | *18000 | 45000
*GNSS REQUIRED
GASTO, AK FIX | ANCHORAGE, AK VOR/DME | *18000 | 45000
*GNSS REQUIRED
ANCHORAGE, AK VOR/DME | GULKANA, AK VOR/DME | *18000 | 45000
*GNSS REQUIRED
GULKANA, AK VOR/DME | U.S. CANADIAN BORDER | *18000 | 45000
*GNSS REQUIRED
§ 95.4902 RNAV Route Q902 Is Added To Read
SEATTLE, WA VORTAC | ORCUS, WA FIX | *18000 | 45000
*GNSS REQUIRED
ORCUS, WA FIX | U. S. CANADIAN BORDER | *18000 | 45000
*GNSS REQUIRED
U. S. CANADIAN BORDER | ANNETTE ISLAND, AK VOR/DME | *18000 | 45000
*GNSS REQUIRED
ANNETTE ISLAND, AK VOR/DME | GESTI, AK FIX | *18000 | 45000
*GNSS REQUIRED
GESTI, AK FIX | DOOZI, AK FIX | *18000 | 45000
*GNSS REQUIRED
DOOZI, AK FIX | LEVEL ISLAND, AK VOR/DME | *18000 | 45000
*GNSS REQUIRED
LEVEL ISLAND, AK VOR/DME | HOODS, AK FIX | *18000 | 45000
*GNSS REQUIRED
HOODS, AK FIX | SISTERS ISLAND, AK VORTAC | *18000 | 45000
*GNSS REQUIRED
SISTERS ISLAND, AK VORTAC | U. S. CANADIAN BORDER | *18000 | 45000
*GNSS REQUIRED
U. S. CANADIAN BORDER | NORTHWAY, AK VORTAC | *18000 | 45000
*GNSS REQUIRED
NORTHWAY, AK VORTAC | RDFLG, AK FIX | *18000 | 45000
*GNSS REQUIRED
RDFLG, AK FIX | HRDNG, AK FIX | *18000 | 45000
*GNSS REQUIRED
HRDNG, AK FIX | FAIRBANKS, AK VORTAC | *18000 | 45000
*GNSS REQUIRED
FAIRBANKS, AK VORTAC | KOTZEBUE, AK VOR/DME | *18000 | 45000
*GNSS REQUIRED

FROM | TO | MEA
§ 95.6001 Victor Routes—U.S.
§ 95.6008 VOR Federal Airway V8 Is Amended To Read in Part
MOLINE, IL VOR/DME | TRIDE, IL FIX
| W BND | 3300
| E BND | 4000
TRIDE, IL FIX | JOLIET, IL VOR/DME
| E BND | 2600
| W BND | 3300
§ 95.6009 VOR Federal Airway V9 Is Amended To Delete
PONTIAC, IL VOR/DME | KELSI, IL FIX | 3000
KELSI, IL FIX | ROCKFORD, IL VOR/DME | 2700
ROCKFORD, IL VOR/DME | JANESVILLE, WI VOR/DME | 2700
§ 95.6038 VOR Federal Airway V38 Is Amended To Read in Part
MOLINE, IL VOR/DME | TRIDE, IL FIX
| W BND | 3300
| E BND | 4000
§ 95.6039 VOR Federal Airway V39 Is Amended To Delete
CHESTER, MA VOR/DME | VAPER, MA FIX | *3700
*3200—MOCA
VAPER, MA FIX | GARDNER, MA VOR/DME | *3500
*2900—MOCA
GARDNER, MA VOR/DME | CONCORD, NH VOR/DME | 4000
CONCORD, NH VOR/DME | *NEETS, NH WP | 3500
*4500—MCA NEETS, NH WP, NE BND
NEETS, NH WP | *LABEL, ME WP | **6000
*7000—MCA LABEL, ME WP, NE BND
**3500—MOCA
**3500—GNSS MEA
LABEL, ME WP | AUGUSTA, ME VOR/DME | *7000
*3600—MOCA
*3600—GNSS MEA
§ 95.6063 VOR Federal Airway V63 Is Amended To Delete
DAVENPORT, IA VORTAC | MIHAL, IL FIX | 2700
MIHAL, IL FIX | ROCKFORD, IL VOR/DME | 2700
ROCKFORD, IL VOR/DME | JANESVILLE, WI VOR/DME | 2700
§ 95.6093 VOR Federal Airway V93 Is Amended To Delete
CHESTER, MA VOR/DME | KEENE, NH VORTAC | *4000
*3500—GNSS MEA
KEENE, NH VORTAC | CONCORD, NH VOR/DME | 5000
CONCORD, NH VOR/DME | KENNEBUNK, ME VOR/DME | 3000
KENNEBUNK, ME VOR/DME | BRNNS, ME FIX | *3000
*1600—MOCA
BRNNS, ME FIX | BANGOR, ME VORTAC | 3000
§ 95.6100 VOR Federal Airway V100 Is Amended To Delete
DUBUQUE, IA VORTAC | ROCKFORD, IL VOR/DME | 2900
ROCKFORD, IL VOR/DME | KRENA, IL FIX | 2800
KRENA, IL FIX | FARMM, IL FIX | 2900
FARMM, IL FIX | NORTHBROOK, IL VOR/DME | 2700
§ 95.6127 VOR Federal Airway V127 Is Amended To Delete
BRADFORD, IL VORTAC | WYNET, IL FIX | 2700
WYNET, IL FIX | POLO, IL VOR/DME | 2600
POLO, IL VOR/DME | ROCKFORD, IL VOR/DME | 2700
§ 95.6159 VOR Federal Airway V159 Is Amended To Read in Part
HODEN, MO FIX | NAPOLEON, MO VORTAC | 3000
§ 95.6171 VOR Federal Airway V171 Is Amended To Delete
JOLIET, IL VOR/DME | ROCKFORD, IL VOR/DME | 2700
§ 95.6175 VOR Federal Airway V175 Is Amended To Delete
HALLSVILLE, MO VORTAC | MACON, MO VOR/DME | 3100
MACON, MO VOR/DME | KIRKSVILLE, MO VORTAC | 2700
§ 95.6193 VOR Federal Airway V193 Is Amended To Read in Part
MUSKY, MI FIX | PULLMAN, MI VOR/DME | UNUSABLE
PULLMAN, MI VOR/DME | CLOCK, MI FIX | UNUSABLE
CLOCK, MI FIX | WHITE CLOUD, MI VOR/DME | UNUSABLE
WHITE CLOUD, MI VOR/DME | TRAVERSE CITY, MI VOR/DME | UNUSABLE
§ 95.6285 VOR Federal Airway V285 Is Amended To Read in Part
VICTORY, MI VOR/DME | CLOCK, MI FIX | UNUSABLE
CLOCK, MI FIX | WHITE CLOUD, MI VOR/DME | UNUSABLE
§ 95.6325 VOR Federal Airway V325 Is Amended To Read in Part
GADSDEN, AL VOR/DME | MUSCLE SHOALS, AL VORTAC | 3500
§ 95.6341 VOR Federal Airway V341 Is Amended To Read in Part
DUBUQUE, IA VORTAC | MADISON, WI VORTAC | 4000
§ 95.6424 VOR Federal Airway V424 Is Amended To Delete
NAPOLEON, MO VORTAC | MACON, MO VOR/DME | 2900
§ 95.6531 VOR Federal Airway V531 Is Amended To Read in Part
PALM BEACH, FL VORTAC | *SHEDS, FL FIX | 3000
*3000—MRA
SHEDS, FL FIX | CUSMO, FL FIX | *6000
*2000—MOCA
*2000—GNSS MEA
CUSMO, FL FIX | BAIRN, FL FIX | #*6000
*2000—MOCA
*2000—GNSS MEA
#PALM BEACH R-327 UNUSABLE CUSMO-BAIRN
§ 95.6586 VOR Federal Airway V586 Is Amended To Delete
EXCEL, MO FIX | MACON, MO VOR/DME | *3000
*2300—MOCA
MACON, MO VOR/DME | QUINCY, IL VORTAC | 2700
§ 95.6444 Alaska VOR Federal Airway V444 Is Amended To Read in Part
NORTHWAY, AK VORTAC | U.S. CANADIAN BORDER | *8400
*5800—MOCA
§ 95.6482 Alaska VOR Federal Airway V482 Is Amended To Delete
JOHNSTONE POINT, AK VOR/DME | TOSIN, AK FIX | *10000
*9300—MOCA
TOSIN, AK FIX | RIVVA, AK FIX | 6000
RIVVA, AK FIX | GULKANA, AK VOR/DME | *5000
*4500—MOCA

FROM | TO | MEA | MAA
§ 95.7001 Jet Routes
§ 95.7502 Jet Route J502 Is Amended To Delete
SISTERS ISLAND, AK VORTAC | U.S. CANADIAN BORDER | 18000 | 45000
U.S. CANADIAN BORDER | NORTHWAY, AK VORTAC | 18000 | 45000
§ 95.7511 Jet Route J511 Is Amended To Delete
GULKANA, AK VOR/DME | U.S. CANADIAN BORDER | 18000 | 45000

[FR Doc. 2021-19514 Filed 9-9-21; 8:45 am]

BILLING CODE 4910-13-P